NATIONAL AERONAUTICS AND SPACE ADMINISTRATION

[Notice (10-057)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: May 21, 2010.

FOR FURTHER INFORMATION CONTACT: Mark W. Homer, Patent Counsel, NASA Management Office—JPL, 4800 Oak Grove Drive, Mail Stop 180-200, Pasadena, CA 91109; telephone (818) 354-7770.

NASA Case No.: NPO-46938-1: 201HG+ CO-Magnetometer for 199HG+ Trapped Ion Space Atomic Clocks.

NASA Case No.: NPO-41506-2: Biomarker Sensors and Method for Multi-Color Imaging and Processing of Single-Molecule Life Signatures.

NASA Case No.: DRC-009-008: Improved Automatic Aircraft Collision Avoidance System and Method.

Dated: May 17, 2010.
Richard W. Sherman,
Deputy General Counsel.

[FR Doc. 2010-12180 Filed 5-20-10; 8:45 am]

BILLING CODE 7510-13-P